POSTAL RATE COMMISSION

Facility Tours

AGENCY: Postal Rate Commission.

ACTION: Notice of Commission visit.

SUMMARY: Postal Rate Commissioners and staff members will tour mail preparation facilities located in the vicinity of East Hartford, Connecticut on November 4 and 5, 2004. The purpose is to familiarize attendees with various postal-related operations, including those related to barcoding and sorting First-Class Mail.

DATES: 1. November 4, 2004 (afternoon): PSI presentation/facility tour. 2. November 5, 2004 (morning): Pitney Bowes Tech Center tour; (afternoon): Pitney Bowes Management Services Mail Recovery Center tour.

FOR FURTHER INFORMATION CONTACT: Stephen L. Sharfman, General Counsel, 202-789-6818.

Steven W. Williams,
Secretary.

[FR Doc. 04-23241 Filed 10-15-04; 8:45 am]

BILLING CODE 7710-FW-M